DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date of Meeting: 06-07 February 2001.

Time of Meeting: 0830-1630, 06 February 2001, 0830-1630, 07 February 2001.

Place: Aerojet Sacramento Facility, Highway 50 & Aerojet Road, Rancho Cordova, CA 95760.

Agenda: The Army Science Board's (ASB) study on Venture Capital will have their kickoff meeting to be briefed by Study Sponsors and to break into individual panels. There will be a briefing by RAND, discussion on the CIA Initiative, and Army Procurement, to name a few. For further information, please contact LTC John Anzalone, Operations Research Analyst, (703) 604-7436.

Wayne Joyner,
Program Support Specialist, Army Science Board.

[FR Doc. 01-2903 Filed 2-2-01; 8:45 am]

BILLING CODE 3710-08-M